CHEMICAL SAFETY AND HAZARD INVESTIGATION BOARD

Meetings; Sunshine Act

The U.S. Chemical Safety and Hazard Investigation Board (CSB) announces that it will hold a public meeting on April 19, 2012, in Buffalo, New York, to present the findings from its investigation of a flammable vapor explosion on November 9, 2010, at the E.I DuPont de Nemours and Co. Inc. chemical plant in Buffalo, New York. The incident involved a contract welder and foreman who were repairing an agitator support atop an atmospheric storage tank containing flammable vinyl fluoride (VF). The VF vapor from interconnected, in-service process tanks flowed undetected into the tank and ignited when the welder was repairing the agitator support assembly. The welder died instantly and the foreman was burned.

The meeting will begin at 6 p.m. at the Embassy Suites Buffalo Downtown, Room: Encore I, II, and III, 200 Delaware Ave., Buffalo, NY 14202 (716-842-1000). The meeting is free and open to the public. Pre-registration is not required, but to assure adequate seating, attendees are encouraged to pre-register by emailing their names and affiliations to publicmeeting@csb.gov by April 14, 2012.

At the meeting CSB staff will present to the Board the results of their investigation into this incident. Key issues involved in the investigation concern flammable gas monitoring, tank isolation and hot work permits and sign-offs. Following the presentation of the CSB's findings and safety recommendations, the Board will hear comments from the public.

At the conclusion of the public comment period, the Board will consider whether to approve the final case study and recommendations. All staff presentations are preliminary and are intended solely to allow the Board to consider in a public forum the issues and factors involved in this case. No factual analyses, conclusions or findings presented by staff should be considered final. Only after the Board has considered the final staff presentation, listened to the public comments and approved the staff case study will there be an approved final record of this incident.

The Board will also consider whether to approve the CSB's draft 2012-2016 Strategic Plan, which includes strategic goals, objectives, and associated measures for managing and evaluating agency operations. The draft plan is available for public comment until April 12, 2012 at www.csb.gov. All comments can be submitted via email to strategicplan@csb.gov.

Please notify CSB if a translator or interpreter is needed, at least 5 business days prior to the public meeting. For more information, please contact the U.S. Chemical Safety and Hazard Investigation Board at (202) 261-7600, or visit our Web site at: www.csb.gov.

Daniel Horowitz,
Managing Director.

[FR Doc. 2012-8142 Filed 4-2-12; 11:15 am]

BILLING CODE 6350-01-P